DEPARTMENT OF JUSTICE

Antitrust Division

Notice Pursuant to the National Cooperative Research and Production Act of 1993—Advanced Technology Institute (“ATI”): National Shipbuilding Research Program (“NSRP”)

Notice is hereby given that, on April 11, 2000, pursuant to section 6(a) of the National Cooperative Research and Production Act of 1993, 15 U.S.C. 4301 et seq. (“the Act”), Advanced Technology Institute has filed written notifications simultaneously with the Attorney General and the Federal Trade Commission disclosing changes in the project status of the National Shipbuilding Research Program (“NSRP”). The notifications were filed for the purpose of extending the Act's provisions limiting the recovery of antitrust plaintiffs to actual damages under specified circumstances. Specifically, the general area of planned activity of the NSRP is to establish collaborative research efforts of limited duration to manage and focus national shipbuilding research and development funding on technologies that will reduce the cost of warships to the Navy, and establish U.S. international shipbuilding competitiveness. NSRP also provides a collaborative forum to improve business and acquisition processes.

No other changes have been made in either the membership or planned activity of the group research project. Membership in this group research project remains open, and Advanced Technology Institute: National Shipbuilding Research Program intends to file additional written notification disclosing all changes in membership.

On March 13, 1998, Advanced Technology Institute: National Shipbuilding Research Program filed its original notification pursuant to section 6(a) of the Act. The Department of Justice published a notice in the Federal Register pursuant to Section 6(b) of the Act on January 29, 1999 (64 FR 4708).

The last notification was filed with the Department on January 5, 2000. A notice has not yet been published in the Federal Register.

Constance K. Robinson,
Director of Operations, Antitrust Division.

[FR Doc. 00-15998 Filed 6-23-00; 8:45 am]

BILLING CODE 4410-11-M